DEPARTMENT OF ENERGY

Federal Energy Regulatory Commission

Combined Notice of Filings #2

Take notice that the Commission received the following electric corporate filings:

Docket Numbers: EC11-91-000.

Applicants: Mesquite Power, LLC.

Description: Mesquite Power, LLC Application pursuant to section 203 of the FPA for Authorization of Intracorporate Transfer of Jurisdictional Assets.

Filed Date: 07/01/2011.

Accession Number: 20110701-5299.

Comment Date: 5 p.m. Eastern Time on Friday, July 22, 2011.

Take notice that the Commission received the following electric rate filings:

Docket Numbers: ER10-2278-001; ER10-2277-001; ER10-3203-001.

Applicants: Cogentrix Virginia Leasing Corporation, James River Cogeneration Company, J. Aron & Company.

Description: Updated Market Power Analysis and Request for Category 1 Seller Status Cogentrix Virginia Leasing Corporation, et al.

Filed Date: 06/30/2011.

Accession Number: 20110630-5308.

Comment Date: 5 p.m. Eastern Time on Monday, August 29, 2011.

Docket Numbers: ER10-2331-001; ER10-2343-001; ER10-2320-001; ER10-2322-002; ER10-2326-001; ER10-2327-002; ER10-2330-001.

Applicants: J.P. Morgan Ventures Energy Corporation, J.P. Morgan Commodities Canada Corporation, BE Alllegheny LLC, BE Ironwood LLC, Cedar Brakes I, LLC, Cedar Brakes II, LLC, Utility Contract Funding, LLC.

Description: Updated Market Power Analysis and Order 697 Compliance Filing of the JPMorgan Sellers for the Northeast Region.

Filed Date: 06/30/2011.

Accession Number: 20110630-5312.

Comment Date: 5 p.m. Eastern Time on Monday, August 29, 2011.

Docket Numbers: ER11-3576-001; ER97-3583-005; ER11-3401-002; ER10-3138-001.

Applicants: Golden Spread Electric Cooperative, Inc., GS Electric Generating Cooperative, Inc., Golden Spread Panhandle Wind Ranch, LLC, Denver City Energy Associates, L.P.

Description: Notice of Non-Material Change of Status of Golden Spread Electric Cooperative, Inc. et al.

Filed Date: 07/05/2011.

Accession Number: 20110705-5062.

Comment Date: 5 p.m. Eastern Time on Tuesday, July 26, 2011.

Docket Numbers: ER11-3994-000.

Applicants: New York Independent System Operator, Inc.

Description: Notice of termination of Service Agreement 1586 of New York Independent System Operator, Inc.

Filed Date: 06/30/2011.

Accession Number: 20110630-5313.

Comment Date: 5 p.m. Eastern Time on Thursday, July 21, 2011.

Docket Numbers: ER11-3995-000.

Applicants: Cleco Power LLC.

Description: Request for Cancellation of Cleco Power LLC Service Agreement No. 101.

Filed Date: 07/01/2011.

Accession Number: 20110701-5304.

Comment Date: 5 p.m. Eastern Time on Friday, July 22, 2011.

Docket Numbers: ER11-3996-000.

Applicants: Cleco Power LLC.

Description: Request for Cancellation of Cleco Power LLC Service Agreement No. 102.

Filed Date: 07/01/2011.

Accession Number: 20110701-5305.

Comment Date: 5 p.m. Eastern Time on Friday, July 22, 2011.

Docket Numbers: ER11-3997-000.

Applicants: PJM Interconnection, LLC.

Description: PJM Interconnection, LLC submits tariff filing per 35.13(a)(2)(iii: Service Agreement Nos. 2955 and 2956 to be effective 6/2/2011.

Filed Date: 07/05/2011.

Accession Number: 20110705-5071.

Comment Date: 5 p.m. Eastern Time on Tuesday, July 26, 2011.

Docket Numbers: ER11-3998-000.

Applicants: Tampa Electric Company.

Description: Tampa Electric Company Request for Waiver of Tariff Provision.

Filed Date: 07/05/2011.

Accession Number: 20110705-5082.

Comment Date: 5 p.m. Eastern Time on Tuesday, July 15, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: July 5, 2011.
Nathaniel J. Davis, Sr.,
Deputy Secretary.

[FR Doc. 2011-17837 Filed 7-14-11; 8:45 am]

BILLING CODE 6717-01-P